DEPARTMENT OF THE INTERIOR

National Park Service

Notice of Inventory Completion: The Colorado College, Colorado Springs, CO; Correction

AGENCY: National Park Service, Interior.

ACTION: Notice.

Notice is here given in accordance with the Native American Graves Protection and Repatriation Act (NAGPRA), 25 U.S.C. 3003, of the completion of an inventory of human remains and associated funerary objects under the control of The Colorado College, Colorado Springs, CO. The human remains and associated funerary objects were removed from sites in the southwestern United States and a canyon tributary of Comb Wash, San Juan County, UT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number count of the associated funerary objects in a Notice of Inventory Completion previously published in the Federal Register (72 FR 19232-193233, April 14, 2004) from one to two. In the Federal Register notice of April 14, 2004, paragraph numbers 6-9 are corrected by substituting the following paragraphs:

Between 1897 and 1898, human remains representing one individual were removed from a cliff ruin in a canyon tributary of Comb Wash, San Juan County, UT, under the auspices of the Lang Expedition of 1897-1898. Prior to 1900, General William Jackson Palmer acquired what became known as the Lang-Bixby Collection which he subsequently transferred to The Colorado College. With the exception of the human remains and funerary objects in direct contact with the human remains, The Colorado College Museum collection, which included the Lang-Bixby Collection, was dispersed through long-term loans primarily to the Colorado Springs Fine Arts Center (formerly Taylor Museum) and the Denver Museum of Nature and Science (formerly Denver Museum of Natural History) beginning in the late 1960s. The two associated funerary objects are a woven fiber robe or blanket and a piece of buckskin. There is an additional funerary object associated with the human remains, a large ceramic vessel, which is currently missing from the collection.

A physical anthropological assessment of the human remains indicates that the remains are ancestral Puebloan based on the type of cranial deformation. The type and style of associated funerary objects are also ancestral Puebloan. A relationship of shared group identity can reasonably be traced between ancestral Puebloan peoples and modern Puebloan peoples based on oral tradition and scientific studies. A preponderance of evidence supports cultural affiliation with modern Puebloan groups. According to scientific studies and oral tradition, the Navajo share some cultural practices with modern Puebloans, however, there is not a preponderance of evidence to support Navajo cultural affiliation.

Officials of The Colorado College have determined that, pursuant to 25 U.S.C. 3001 (9-10), the human remains described above represent the physical remains of 11 individuals of Native American ancestry. Officials of The Colorado College also have determined that, pursuant to 25 U.S.C. 3001 (3)(A), the two objects described above are reasonably believed to have been placed with or near individual human remains at the time of death or later as part of the death rite or ceremony. Lastly, officials of The Colorado College have determined that, pursuant to 25 U.S.C. 3001 (2), there is a relationship of shared group identity that can be reasonably traced between the Native American human remains and associated funerary objects and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

Representatives of any other Indian tribe that believes itself to be culturally affiliated with the human remains and associated funerary objects should contact Chris Melcher, Legal Counsel/Director of Business, The Colorado College c/o Jan Bernstein, President, Bernstein & Associates - NAGPRA Consultants, 1041 Lafayette St., Denver, CO 80218, telephone (303) 894-0648, janbernstein@nagpra.info, before September 21, 2009. Repatriation of the human remains and associated funerary objects to the Hopi Tribe of Arizona may proceed after that date if no additional claimants come forward.

The Colorado College is responsible for notifying the Hopi Tribe of Arizona; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico that this notice has been published.

Dated: August 5, 2009.
Sherry Hutt,
Manager, National NAGPRA Program.

[FR Doc. E9-19976 Filed 8-19-09; 8:45 am]

BILLING CODE 4312-50-S